DEPARTMENT OF AGRICULTURE

Hood/Willamette Resource Advisory Committee (RAC); Meeting

AGENCY: Forest Service, USDA.

ACTION: Meeting.

SUMMARY: The Hood/Willamette Resource Advisory Committee (RAC) will meet on Thursday and Friday, January 24-25, 2001. The meeting is scheduled to begin at 9:30 a.m. on Thursday and 8 a.m. on Friday, and will conclude at approximately 5 p.m. on Thursday and 12 p.m. on Friday. The meeting will be held at the Linn County Fair and Expo Center; 3700 Knox Butte Road; Albany, Oregon; (541) 926-4314. The tentative agenda includes: (1) Training on Federal Advisory Committee Act regulations; (2) Orientation on operation, roles, and responsibilities of the RAC; (3) Project submission and approval process; (4) Public Forum; (5) Training on collaboration; (6) Election of RAC chairperson.

The Public Forum is tentatively scheduled to begin at 3:30 p.m. on Thursday. Time allotted for individual presentations will be limited to 3-4 minutes. Written comments are encouraged, particularly if the material cannot be presented within the time limits for the Public Forum. Written comments may be submitted prior to the January 24th meeting by sending them to Designated Federal Official Donna Short at the address given below.

FOR FURTHER INFORMATION CONTACT: For more information regarding this meeting, contact Designated Federal Official Donna Short; Sweet Home Ranger District; 3225 Highway 20; Sweet Home, Oregon 97386; (541) 367-9220.

Dated: December 14, 2001.
Y. Robert Iwamoto,
Acting Forest Supervisor.

[FR Doc. 01-31324 Filed 12-19-01; 8:45 am]

BILLING CODE 3410-11-M